POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective January 24, 2021.

FOR FURTHER INFORMATION CONTACT: Tom Foti at (202) 268-2931 or Garry Rodriguez at (202) 268-7281.

SUPPLEMENTARY INFORMATION: This final rule describes new prices and product features for competitive products, by class of mail, established by the Governors of the United States Postal Service®. New prices are available under Docket Number CP2021-28 on the Postal Regulatory Commission PRC website at http://www.prc.gov, and on the Postal Explorer® website at http://pe.usps.com.

The Postal Service will revise Mailing Standards of the United States Postal Service, Domestic Mail Manual (DMM), to reflect changes to prices and mailing standards for the following competitive products:

• Priority Mail Express®.

• Priority Mail®.

• First-Class Package Service®.

• Parcel Select®.

• USPS Retail Ground®.

• Extra Services.

• Return Services.

• Mailer Services.

• Recipient Services.

• Other.

Competitive product prices and changes are identified by product as follows:

Priority Mail Express

Prices

Overall, Priority Mail Express prices will increase 1.2 percent. Priority Mail Express will continue to offer zoned and Flat Rate Retail, Commercial Base®, and Commercial Plus® pricing.

Retail prices will increase an average of 1.0 percent. The Flat Rate Envelope price will remain at $26.35, the Legal Flat Rate Envelope will remain at $26.50, and the Padded Flat Rate Envelope will remain at $26.95.

Commercial Plus prices were matched to the Commercial Base prices in the 2016 price change and will continue to be matched in 2021. Commercial Base and Commercial Plus prices will increase an average of 2.5 percent.

Priority Mail

Prices

Overall, Priority Mail prices will increase 3.5 percent. Priority Mail will continue to offer zoned and Flat Rate Retail, Commercial Base, and Commercial Plus pricing.

Retail prices will increase an average of 3.0 percent. The Flat Rate Envelope price will increase to $7.95, the Legal Flat Rate Envelope will increase to $8.25, and the Padded Flat Rate Envelope will increase to $8.55. The Small Flat Rate Box price will increase to $8.45 and the Medium Flat Rate Boxes will increase to $15.50. The Large Flat Rate Box will increase to $21.90 and the APO/FPO/DPO Large Flat Rate Box will increase to $20.40.

Commercial Base prices offer lower prices to customers who use authorized postage payment methods. Commercial Base prices will increase an average of 3.6 percent.

The Commercial Plus price category offers price incentives to large volume customers who have a customer commitment agreement with USPS®. Commercial Plus prices as a whole will increase 4.5 percent.

First-Class Package Service

Prices

Overall, First-Class Package Service—Retail prices will increase 4.8 percent.

Overall, First-Class Package Service—Commercial prices will increase 6.5 percent.

Parcel Select

Prices

The prices for Parcel Select Destination Entry will increase an average of 8.9 percent. Parcel Select Ground prices will increase an average of 1.3 percent. The prices for Parcel Select Lightweight® will increase an average of 20.0 percent.

USPS Retail Ground

Overall, USPS Retail Ground prices will increase an average of 3.0 percent.

Extra Services

Adult Signature Service

Adult Signature Required and Adult Signature Restricted Delivery service prices are increasing 3.8 and 3.6 percent respectively. The price for Adult Signature Required will increase to $6.90 and Adult Signature Restricted Delivery will increase to $7.15.

Return Services

Parcel Return Service

Overall, Parcel Return Service prices will increase an average of 4.9 percent.

Return Sectional Center Facility (RSCF) prices will increase an average of 4.9 percent and Return Delivery Unit (RDU) prices will increase an average of 4.9 percent.

Mailer Services

Pickup on Demand Service

The Pickup on Demand® service fee will increase 4.2 percent to $25.00.

USPS Premium Tracking Service

Overall, USPS Premium Tracking Service™ prices will remain the same.

USPS Premium Tracking Service Name Change

The Postal Service is renaming USPS Premium Tracking™ service as USPS Tracking Plus™ service.

Recipient Services

Post Office Box Service

The competitive Post Office Box™ service prices will increase an average of 23.3 percent within the updated price ranges.

Premium Forwarding Service

Premium Forwarding Service® (PFS®) prices will increase between 3.9 and 4.0 percent depending on the specific price element. The enrollment fee paid at the retail counter for PFS-Residential will increase to $22.75 and the PFS-Residential, PFS-Commercial, and PFS-Local enrollment fee paid online will increase to $20.90 per application. The price of the weekly shipment charge for PFS-Residential and per container charge for PFS-Local will increase to $22.75.

USPS Package Intercept

The USPS Package Intercept® fee will increase 4.1 percent to $15.25.

Other

Address Enhancement Service

Address Enhancement Service competitive product prices will increase between 3.7 and 100.0 percent.

Small Parcel Forwarding Fee

The small parcel forwarding fee, an optional service first offered in January 2019, will increase 4.2 percent to $4.95.

Oversize Item Charge

As provided in the October 17, 2018, Federal Register final rule (83 FR 52326-52330) for an overweight item, the Postal Service is introducing a similar charge for an item identified in the postal network that exceeds the 130-inch length plus girth maximum dimensional limit for Postal Service products, and is therefore nonmailable. Oversize items identified in the postal network will be assessed a $100 fee payable before release of the item, unless the item is discovered and picked up at the same facility where it was entered. The Postal Service is also adding a commercial payment method, PostalOne!, for fee payment.

Resources

The Postal Service provides additional resources to assist customers with this price change for competitive products. These tools include price lists, downloadable price files, and Federal Register Notices, which may be found on the Postal Explorer® website at http://pe.usps.com.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail Manual (DMM) as follows:

Mailing Standards of the United States Postal Service, Domestic Mail Manual (DMM)

* * * * *

500 Additional Mailing Services

* * * * *

507 Mailer Services

* * * * *

[Revise the heading and text of 11.0 to read as follows:]

11.0 USPS Tracking Plus Service

USPS Tracking Plus service allows customers to request the Postal Service retain scan data, or scan and signature data for their packages, beyond the Postal Service's standard data retention period, for up to 10 years. USPS Tracking Plus service is available for commercial packages shipped via Priority Mail Express, Priority Mail, First-Class Package Service, Parcel Select, and commercial packages with Adult Signature Services. For Scan and Signature Retention on products other than Priority Mail Express, the customer must have purchased an underlying signature service, such as Signature Confirmation service (see Notice 123-Price List). Customers can request USPS Tracking Plus service online at usps.com or through a Shipping Services File.

* * * * *

600 Basic Standards for All Mailing Services

601 Mailability

* * * * *

[Revise the heading of 1.2 to read as follows:]

1.2 Overweight or Oversize Items

[Revise the text of 1.2.1 to read as follows:]

1.2.1 Description

The Postal Service maximum mailpiece weight limit is 70 pounds (see 201.7.3) and the maximum dimension is 130 inches (length plus girth). Any item exceeding the 70-pound weight or 130-inch dimensional maximum limits are nonmailable and if found in the postal network, must be secured for pick-up by the mailer or addressee and assessed a fee as provided under 1.2.3.

1.2.2 Products and Services

[Revise the text of 1.2.2 to read as follows:]

The standard in 1.2.1 applies to any item that exceeds the 70-pound maximum weight limit or 130-inch maximum dimensional limit including return services, return to sender, and undeliverable as addressed. The standard in 1.2.1 for items exceeding the 70-pound weight or 130-inch dimensional maximum limits does not apply to the Competitive P.O. Box Street Addressing feature in DMM subsection 508.4.5.4.

1.2.3 Fee

[Revise the text of 1.2.3 to read as follows:]

Except for an overweight or oversize item discovered and picked up at the same facility where it was entered, the overweight/oversize item fee of $100 will be assessed and must be paid before release of the item. The $100 overweight/oversize item fee may be paid by any authorized retail payment method or through PostalOne!.

1.2.4 Pickup

[Revise the text of 1.2.4 to read as follows:]

Unless authorized, an overweight or oversize item not paid for and picked up within 14 calendar days will be considered abandoned and disposed of at the discretion of the Postal Service.

* * * * *

Notice 123 (Price List)

[Revise competitive prices as applicable.]

* * * * *

We will publish an appropriate amendment to 39 CFR part 111 to reflect these changes.

Ruth Stevenson,
Attorney, Federal Compliance.

[FR Doc. 2020-25833 Filed 11-19-20; 8:45 am]

BILLING CODE 7710-12-P